ENVIRONMENTAL PROTECTION AGENCY

[FRL-7928-1]

Notice of Availability of “Award of Grants and Cooperative Agreements for the Special Projects and Programs Authorized by the Agency's FY 2005 Appropriations Act”

AGENCY: Environmental Protection Agency (EPA).

ACTION: Notice of document availability.

SUMMARY: EPA is announcing the availability of a memorandum entitled “Award of Grants and Cooperative Agreements for the Special Projects and Programs Authorized by the Agency's Fiscal Year (FY) 2005 Appropriations Act.” This memorandum provides information and guidelines on how EPA will award and administer grants for the special projects and programs identified in the State and Tribal Assistance Grants (STAG) account of the Agency's FY 2005 Appropriations Act (Pub. L. 108-447). The STAG account provides budget authority for funding identified water, wastewater and groundwater infrastructure projects, as well as budget authority for funding the United States-Mexico Border Program, the Alaska Rural and Native Villages Program, and the Long Island Sound Restoration Program. Each grant recipient will receive a copy of this document from EPA.

ADDRESSES: The subject memorandum may be viewed and downloaded from EPA's homepage, http://www.epa.gov/owm/mab/owm0329.pdf.

FOR FURTHER INFORMATION CONTACT: Benjamin J. Hamm, (202) 564-0648 or hamm.ben@epa.gov.

Dated: June 13, 2005.
James A. Hanlon,
Director, Office of Wastewater Management.

[FR Doc. 05-12707 Filed 6-27-05; 8:45 am]

BILLING CODE 6560-50-M